DEPARTMENT OF COMMERCE

Foreign-Trade Zones Board

[S-172-2025]

Approval of Subzone Status; A&K Railroad Materials, Inc.; Eagle Lake, Texas

On June 16, 2025, the Executive Secretary of the Foreign-Trade Zones (FTZ) Board docketed an application submitted by the Calhoun-Victoria Foreign-Trade Zone, Inc., grantee of FTZ 155, requesting subzone status subject to the existing activation limit of FTZ 155, on behalf of A&K Railroad Materials, Inc., in Eagle Lake, Texas.

The application was processed in accordance with the FTZ Act and Regulations, including notice in the Federal Register inviting public comment (90 FR 25993, June 18, 2025). The FTZ staff examiner reviewed the application and determined that it meets the criteria for approval. Pursuant to the authority delegated to the FTZ Board Executive Secretary (15 CFR 400.36(f)), the application to establish Subzone 155E was approved on August 25, 2025, subject to the FTZ Act and the Board's regulations, including section 400.13, and further subject to FTZ 155's 2,000-acre activation limit.

Dated: August 25, 2025.
Elizabeth Whiteman,
Executive Secretary.

[FR Doc. 2025-16421 Filed 8-26-25; 8:45 am]

BILLING CODE 3510-DS-P